DEPARTMENT OF THE INTERIOR

Bureau of Indian Affairs

Jackson Band of Miwuk Indians of the Jackson Rancheria Liquor Control Ordinance

AGENCY: Bureau of Indian Affairs, Interior.

ACTION: Notice.

SUMMARY: This notice publishes the Jackson Band of Miwuk Indians of the Jackson Rancheria (Tribe) Liquor Control Ordinance. The Ordinance regulates and controls the possession, sale and consumption of liquor within the Jackson Tribe's tribal land. The tribal land is located on trust land and this Ordinance allows for the possession and sale of alcoholic beverages. This Ordinance will increase the ability of the tribal government to control the distribution and possession of liquor within their tribal land, and at the same time will provide an important source of revenue and strengthening of the tribal government and the delivery of tribal services.

DATES: Effective Date: This Ordinance is effective September 26, 2008.

FOR FURTHER INFORMATION CONTACT: Fred Doka, Jr., Tribal Operations Officer, Pacific Regional Office, 2800 Cottage Way, Sacramento, CA 95825, Telephone (916) 978-6067; or Elizabeth Colliflower, Office of Indian Services, 1849 C Street, NW., Mail Stop 4513-MIB, Washington, DC 20240; Telephone (202) 513-7627; Fax (202) 501-0679.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Jackson Band of Miwuk Indians of the Jackson Rancheria Tribal Council adopted this Ordinance on April 18, 2008. The purpose of this Ordinance is to govern the sale, possession and distribution of alcohol within the Tribe's land.

This notice is published in accordance with the authority delegated by the Secretary of the Interior to the Assistant Secretary—Indian Affairs. I certify that the Jackson Band of Miwuk Indians of the Jackson Rancheria adopted this Liquor Control Ordinance No. 2008-02 on April 18, 2008.

Dated: September 17, 2008.
George Skibine,
Acting Deputy Assistant Secretary for Policy and Economic Development.

The Jackson Band of Miwuk Indians of the Jackson Rancheria Liquor Control Ordinance reads as follows:

Jackson Band of Miwuk Indians of the Jackson Rancheria, Amador County, California, Tribal Council Ordinance No. 2008-02, Sale of Alcoholic Beverages

The Tribal Council of the Jackson Band of Miwuk Indians of the Jackson Rancheria (hereinafter “Council”), governing body of the Jackson Band of Miwuk Indians of the Jackson Rancheria (hereinafter “Tribe”), hereby enacts this Ordinance to govern the sale of alcoholic beverages at our general convenience store on Rancheria lands.

Preamble

1. Title 18, United States Code, Section 1161, provides Indian tribes with authority to enact ordinances governing the consumption and sale of alcoholic beverages on their Reservations, provided such ordinance is certified by the Secretary of the Interior, published in the Federal Register and such activities are in conformity with state law.

2. Jackson Rancheria is the owner and operator of a general convenience store on the Rancheria (hereinafter for reference purpose “General Store”) which sells, among other products, certain snack and food items to members of the Tribe and the general public.

3. Said General Store is an integral part of the Tribe's economy.

4. The Tribal Council has determined that it is in the Tribe's best interest to offer for sale at the General Store, for off-premises consumption only, alcoholic beverages.

5. It is the purpose of this Ordinance to set out the terms and conditions under which the sale of said alcoholic beverages may take place.

General Terms

1. The sale of alcoholic beverages at the Jackson Rancheria's General Store for off-premises consumption only, is hereby authorized. For purposes of this paragraph 1 and this Ordinance, “off-premises” is defined as area outside the boundaries of the Jackson Rancheria lands.

2. No alcoholic beverages may be sold at any location on the Rancheria pursuant to this Ordinance other than the General Store.

3. The sale of said alcoholic beverages authorized by this Ordinance shall be in conformity with all applicable laws of the State of California, and the sale of said beverages shall be subject to any and all applicable state sales tax, federal excise tax and any fees required by the Federal Bureau of Alcohol, Tobacco & Firearms. This includes but is not limited to the following examples:

a. No person under the age of 21 years shall acquire or have in his or her possession at the General Store any alcoholic beverage.

b. No person shall sell alcohol to any person under the age of 21 at the General Store.

c. No person shall sell alcohol to a person apparently under the influence of liquor.

Posting

This Ordinance shall be conspicuously posted at the General Store at all times it is open to the public.

Enforcement

1. This Ordinance may be enforced by the Tribal Council by implementation of monetary fines not to exceed $500 and/or withdrawal of authorization to sell alcohol. Prior to any enforcement action, the Tribal Council shall provide the alleged offender of this Ordinance with at least three (3) days notice of an opportunity to be heard during a specially-called Tribal Council meeting. The decision of the Tribal Council shall be final.

2. This Ordinance also may be enforced by the Amador County Sheriff's Office at the request of the Tribal Council.

3. In the exercise of its powers and duties under this Ordinance, the Tribal Council and its individual members shall not accept any gratuity or compensation from any liquor wholesaler, retailer, or distributor for the General Store.

Severability, Amendment, and Sovereign Immunity

1. If any provision or application of this Ordinance is determined by review to be invalid, such adjudication shall not be held to render ineffectual the remaining portions of this title or to render such provisions inapplicable to other persons or circumstances.

2. This Ordinance may only be amended by a majority vote of the Tribal Council.

3. Nothing in this Ordinance in any way limits, alters, restricts or waives the Tribe's sovereign immunity from unconsented suit or action.

Effective Date

This Ordinance shall become effective following its certification by the Secretary of the Interior and its publication in the Federal Register.

Certification

The foregoing Ordinance was adopted by a vote of 3 for, and 0 against and 0 abstentions, at a duly called meeting of the Jackson Band of Miwuk Indians of the Jackson Rancheria Tribal Council at which a quorum was present, on this 18th day of April, 2008.

/s/

Margaret Dalton,

Chairperson.

ATTEST:

Gary Marks,

Secretary-Treasurer.

[FR Doc. E8-22707 Filed 9-25-08; 8:45 am]

BILLING CODE 4310-4J-P